DEPARTMENT OF HOUSING AND URBAN DEVELOPMENT

[Docket No. FR-5610-N-18]

Notice of Proposed Information Collection for Public Comment; Public Housing Reform Act: Changes to Admission and Occupancy Requirements for the Public Housing and Section 8 Assistance Programs

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

The purpose of this information collection submission is to implement the requirement that public housing agencies have available upon request, their respective admission and occupancy policies for both the public and the Department of Housing and Urban Development. Public housing authorities must have on hand and available for inspection policies related to admission and continued occupancy, so as to respond to inquiries from tenants, legal-aid services, HUD, and other interested parties informally or through the Freedom of Information Act. Written documentation of policies relating to public housing and Section 8 assistance programs implemented under the Quality Housing and Work Responsibility Act of 1998, such as eligibility for admission and continued occupancy, local preferences, and rent determination, must be maintained and made available by public housing authorities.

DATES: Comments Due Date: February 25, 2013.

ADDRESSES: Interested persons are invited to submit comments regarding this revised information collection. Comments should refer to the revised information collection by name/or OMB Control number and should be sent to: Colette Pollard., Departmental Reports Management Officer, QDAM, Department of Housing and Urban Development, 451 7th Street, SW., Room 4160, Washington, DC 20410-5000; telephone 202-402-3400 (this is not a toll-free number) or email Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Reform Act: Changes to Admission and Occupancy Requirements in the Public Housing and Section 8 Assistance Programs.

OMB Control Number: 2577-0230.

Description of the need for the information and proposed use:

The collection of information implements changes to the admission and occupancy requirements for the public housing and Section 8 assisted housing programs made by the Quality Housing and Work Responsibility (QHWRA) Act 1998 (Title V of the FY 1999 HUD appropriations Act, Public Law 105-276, 112 Stat. 2518, approved October 21, 1998), which amended the United States Housing Act of 1937. QHWRA made comprehensive changes to HUD's public housing, Section 8 programs. Some of the changes made by the 1998 Act (i.e., QHWRA) affect public housing only and others affect the Section 8 and public housing programs. These changes cover choice of rent, community service and self-sufficiency in public housing; and admission preferences and determination of income and rent in public housing and Section 8 housing assistance programs.

Agency form numbers: None.

Members of affected public: Public Housing Agencies (PHAs), State or Local Government

Estimation of the total number of hours needed to prepare the information collection including number of respondents: The estimated number of respondents is 4,058 annually. The average number of hours per response is 24 hours, for a total reporting burden of 97,392 hours.

Status of the proposed information collection: Revision of a Currently Approved Collection.

Authority: Section 3506 of the Paperwork Reduction Act of 1995, 44 U.S.C. Chapter 35 as amended.

Dated: December 20, 2012.
Merrie Nichols-Dixon,
Deputy Director for Office of Policy, Programs, and Legislative Initiatives.

[FR Doc. 2012-31054 Filed 12-21-12; 4:15 pm]

BILLING CODE 4210-67-P